DEPARTMENT OF TRANSPORTATION

Federal Aviation Administration

Notice of Opportunity for Public Comment on Surplus Property Release at Barnwell County Airport, Barnwell, South Carolina

AGENCY: Federal Aviation Administration (FAA), DOT.

ACTION: Notice.

SUMMARY: Under the provisions of Title 49, U.S.C. 47151(d), notice is being given that the Federal Aviation Administration (FAA) is considering a request from the County of Barnwell to waive the requirement that a 4.0 acre parcel of surplus property, located at the Barnwell County Airport be used for aeronautical purposes. Currently, ownership of the property provides for protection of FAR Part 77 surfaces and compatible land use which would continue to be protected with deed restrictions required in the transfer of land ownership.

DATES: Comments must be received on or before December 9, 2013.

ADDRESSES: Documents are available for review by prior appointment at the following location: Atlanta Airports District Office, Attn: Rob Rau, South Carolina Planner, 1701 Columbia Ave., Suite 2-260, College Park, Georgia 30337-2747, Telephone: (404) 305-7004.

Comments on this notice may be mailed or delivered in triplicate to the FAA at the following address: Atlanta Airports District Office, Attn: Rob Rau, South Carolina Planner, 1701 Columbia Ave., Suite 2-260, College Park, Georgia 30337-2747.

In addition, one copy of any comments submitted to the FAA must be mailed or delivered to Pickens Williams Jr., County Administrator, Barnwell County at the following address: County Administration Building, 57 Wall Street, Room 126, Barnwell, South Carolina 29812.

FOR FURTHER INFORMATION CONTACT: Rob Rau, South Carolina Planner, Atlanta Airports District Office, 1701 Columbia Ave., Suite 2-260, College Park, Georgia 30337-2747, (404) 305-7004. The application may be reviewed in person at this same location.

SUPPLEMENTARY INFORMATION: The FAA is reviewing a request by the County of Barnwell to release 4.0 acres of surplus property at the Barnwell County Airport. This property was originally conveyed to the County of Barnwell on April 2, 1947 under the powers and authority contained in the provisions of the Surplus Property Act of 1944. Currently, the surplus property is being used for a senior citizens center.

Any person may inspect the request in person at the FAA office listed above under FOR FURTHER INFORMATION CONTACT. In addition, any person may, upon request, inspect the request, notice and other documents germane to the request in person at the Charleston International Airport.

Issued in Atlanta, Georgia, on October 30, 2013.
Gene Roth,
Acting Manager, Atlanta Airports District Office Southern Region.

[FR Doc. 2013-26723 Filed 11-6-13; 8:45 am]

BILLING CODE 4910-13-P